DEPARTMENT OF HEALTH AND HUMAN SERVICES

Centers for Disease Control and Prevention

[30Day 10-0650]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Prevention Research Centers Program National Evaluation Reporting System (OMB No. 0920-0650 exp. 8/31/2010)—Revision—Division of Adult and Community Health, National Center for Chronic Disease Prevention and Health Promotion (NCCDPHP), Centers for Disease Control and Prevention (CDC).

Background and Brief Description

The Prevention Research Centers (PRC) Program was established by Congress through the Health Promotion and Disease Prevention Amendments of 1984. PRCs conduct outcomes-oriented health promotion and disease prevention research on a broad range of topics using a multi-disciplinary and community-based approach. CDC manages the PRC program and currently provides funding to PRC grantees that are housed within schools of public health, medicine, or osteopathy. Awards are made for five years and renewed through a competitive application process.

CDC is currently approved to collect progress and performance information about PRCs through the PRC Information System (IS), a Web-based application (OMB no. 0920-0650, exp. 8/31/2010). The performance information is used to track each PRC's progress toward, and achievement of, the objectives established by the PRC Program and the PRC's individual work plan, including indicators related to research projects, products resulting from those projects, trainings related to those projects, and partnerships. Information has been collected through the PRC IS twice per year.

In the next approval period, information collection will be restructured around a revised set of performance indicators and revised information collection methodology. The frequency of reporting will be reduced to once per year, however, reporting will be divided into two parts. The first information collection will be conducted electronically utilizing Survey Monkey, a more user-friendly Web-based survey system. This information collection will include the following: (1) PRC involvement with State and local health departments and other government agencies, (2) number and characteristics of research projects, (3) number of training programs delivered, (4) number of people trained, and (5) number of students trained. The second information collection will consist of a telephone interview with a key contact for each PRC grantee. The data will include the: (1) Number of new people hired, (2) number of contracts entered into and supported by PRC core funds, and (3) number of effective interventions. Although the number of respondents will increase from 33 to 37 PRCs, the proposed changes will result in a net decrease in the total estimated annualized burden to respondents, due primarily to a decrease in the burden per respondent.

OMB approval is being requested for a three-year period with a start date of June 1, 2010. There are no costs to respondents other than their time. The total estimated burden hours are 259.

Estimated Annualized Burden Hours
Type of respondent | Form name | Number of respondents | Number of responses per respondent | Average burden per response (in hours)
PRC Program | Survey | 37 | 1 | 6
| Telephone Interview | 37 | 1 | 1

Dated: April 6, 2010.
Maryam I. Daneshvar,
Acting Reports Clearance Officer, Centers for Disease Control and Prevention.

[FR Doc. 2010-8259 Filed 4-9-10; 8:45 am]

BILLING CODE 4163-18-P